DEPARTMENT OF THE INTERIOR

National Park Service

[N6936; NPS-WASO-NAGPRA-NPS0042042; PPWOCRADN0-PCU00RP14.R50000]

Notice of Intended Repatriation: Oakland Museum of California, Oakland, CA

AGENCY: National Park Service, Interior.

ACTION: Notice.

SUMMARY: In accordance with the Native American Graves Protection and Repatriation Act (NAGPRA), the Oakland Museum of California (OMCA) intends to repatriate certain cultural items that meet the definition of unassociated funerary objects, sacred objects, and/or objects of cultural patrimony and that have a cultural affiliation with the Indian Tribes or Native Hawaiian organizations in this notice.

DATES: Repatriation of the cultural items in this notice may occur on or after March 25, 2026.

ADDRESSES: Send additional, written requests for repatriation of the cultural items in this notice to Anna Bunting, Oakland Museum of California, 1000 Oak Street, Oakland, CA 94607, email nagpra@museumca.org.

SUPPLEMENTARY INFORMATION: This notice is published as part of the National Park Service's administrative responsibilities under NAGPRA. The determinations in this notice are the sole responsibility of the Oakland Museum of California, and additional information on the determinations in this notice, including the results of consultation, can be found in the summary or related records. The National Park Service is not responsible for the determinations in this notice.

Abstract of Information Available

A total of 89 cultural items, represented by 76 catalog numbers, have been requested for repatriation. All of these items were removed from the Hawaiian Islands by various collectors in the late 19th and early 20th centuries and were donated to the Oakland Public Museum (OPM) or the Oakland Museum of California (OMCA) between 1912 and 1982. OPM's collection was incorporated into the OMCA in 1969.

The four unassociated funerary objects, represented by three catalog numbers, are two Kapa (Bark Cloth) cataloged with one number with a tag stating “Found in cave on Hawaii” acquired by OPM in December 1925. Donated by the Ebell Society. And two Kapa Moe (Bark Cloth Sleeping Blanket), collected from unidentified burial caves, acquired by OPM in November 1952, donated by Mrs. R. Sutphen.

The 85 sacred objects, represented by 73 catalog numbers are: one sperm whale tooth, two Pōhaku Ku`i `Ai (Stone Food Pounders), two `Ulumaika (Stone Disc for Bowling), one `I`e Kūkū (Kapa Beater), one Mea Kapu (Ceremonial Object), one Papa Ku`i `Ai (Poi Pounding Board), one Kapa Moe (Bark Cloth Sleeping Blanket), one Huewai (Water Carrying Gourd) four `Umeke (Gourd Bowl) cataloged with one number, one Lei Pūpū (Shell Necklace) of Land Snails, and three Kapa (Bark Cloth) cataloged with one number. (Nine of these items were acquired by the OPM in April 1912, purchased from Sarah Deming. The other nine were acquired by OPM in October 1922, donated by Sarah Deming as part of her estate). One Ko`i (Adze) from the island of Kaua`i acquired by OPM in December 1917. Donated by W.C. Hollinsead. One Pōhaku Poho (Stone Lamp Base) acquired by OPM in June 1919. Donated by Amelia Sellander.

Two `I`e Kūkū (Kapa Beater) acquired by OPM in July 1921. Donated by Samuel M. Marks. Two Kapa (Bark Cloth) cataloged with one number, acquired by OPM in July 1921. Donated by Mrs. Jas. Maclise. One Pōhaku Poho (Stone Lamp Base), one Ko`i (Adze), one Kapa Moe (Bark Cloth Sleeping Blanket) acquired by OPM in June 1922. Donated by Mrs. Gertrude Warwick. One Pōhaku Lūhe`e (Octopus Lure Sinker) and one Ko`i (Adze) acquired by OPM in June 1924. Donated by Mrs. C.H. King. One `Aha (Cordage) acquired by OPM in September 1924 and one Pāpale (Hat) acquired by OPM in May 1930. Both were donated by Agnes Jewett. One `Eke (Basket) for a Fisherman, two Kapa Moe (Bark Cloth Sleeping Blanket), three Pōhaku Ku`i `Ai (Stone Food Pounder), one `I`e Kūkū (Kapa Beater) acquired by OPM in May 1927, donated by Mrs. Henry Wetherbee. One Pāpale (Hat) acquired by OPM in September 1927, donated by Mrs. Philip E. Bowels. One Kapa Moe—Kilohana (Bark Cloth Sleeping Blanket) and one Pōhaku Poho (Stone Lamp Base) acquired by OPM in August 1927, donated by Mrs. B. Garcin. One description of Papa Ku`i `Ai (Poi Pounding Board) of Kamehameha. Acquired by OPM in August 1913, donated by Charles Wilcomb. One Ko`i (Adze Blade) with Handle and one Lei Hulu (Feather Necklace) of O'o Feathers, acquired by OPM in 1921, purchased from Dr. John Rabe. One Ipu (Gourd), one `I`e Kūkū (Kapa Beater), one `Aha (Cordage), one Kapa (Bark Cloth), two Ko`i (Adze Blade), acquired by OPM in March 1939, donated by the C.S. Lewis Estate. Three Kapa Moe (Bark Cloth Sleeping Blanket) and three Kapa (Bark Cloth), acquired by OPM in July 1948, donated by Elise M. Dodge. The Kapa were removed from Hawaii between 1890—1900 by the donor's grandfather. One Papale (Hat), one `I`e Kūkū (Kapa Beater), acquired by OPM in June 1937, donated by Mrs. Jesse M. Acuff. Four `Umeke Poi (Poi Bowl), acquired by OPM in January 1962, donated by Miguel P. Wall. One Lapa (Bamboo Liner for Kapa Printing) and one Kapa (Bark Cloth) acquired by OPM in November 1967, donated by Dr. Michael Mathes. Two `I`e Kūkū (Kapa Beater), one Lūhe`e (Squid Lure) with a Metal Hook, acquired by OPM in August 1968, Donated by Mrs. George Werkley. Two Kapa (Bark Cloth), cataloged as one number, acquired by the Oakland Museum in 1973. Donated by Marie Wheeler. One `Umeke Poi (Poi Bowl), one `I`e Kūkū (Kapa Beater), one Papa Ku`i `Ai (Poi Pounding Board) were found in collections in 1974 and given `Object of Unknown Origin' numbers. Three Lei Niho Palaoa (Whale Tooth and Human Hair Pendant Necklace), two Pōhaku Ku`i `Ai (Stone Food Pounder), two Ki`i Pōhaku (Stone Image), six Leka (Letterhead) cataloged as one number from the Kingdom of Hawai`i, acquired by the Oakland Museum in December 1982. Donated by Milton C. Buckley.

The presence of potentially hazardous substances on these particular items is unknown.

Determinations

The Oakland Museum of California has determined that:

• The four unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• The 85 sacred objects described in this notice are specific ceremonial objects needed by a traditional Native American religious leader for present-day adherents to practice traditional Native American religion, according to the Native American traditional knowledge of a lineal descendant, Indian Tribe, or Native Hawaiian organization.

• There is a connection between the cultural items described in this notice and the Hui Iwi Kuamo`o.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after March 25, 2026. If competing requests for repatriation are received, the Oakland Museum of California must determine the most appropriate requestor prior to repatriation. Requests for joint repatriation of the cultural items are considered a single request and not competing requests. The Oakland Museum of California is responsible for sending a copy of this notice to the Indian Tribes and Native Hawaiian organizations identified in this notice and to any other consulting parties.

Authority: Native American Graves Protection and Repatriation Act, 25 U.S.C. 3004 and the implementing regulations, 43 CFR 10.9.

Dated: February 13, 2026.
Melanie O'Brien,
Manager, National NAGPRA Program.

[FR Doc. 2026-03560 Filed 2-20-26; 8:45 am]

BILLING CODE 4312-52-P